DEPARTMENT OF HOMELAND SECURITY

Coast Guard

[USCG-2005-22656]

Chemical Transportation Advisory Committee

AGENCY: Coast Guard, DHS.

ACTION: Notice of meeting.

SUMMARY: The Chemical Transportation Advisory Committee (CTAC) and its Subcommittees on Outreach and Hazardous Cargo Transportation Security (HCTS) will meet to discuss various issues relating to the marine transportation of hazardous materials in bulk. These meetings will be open to the public.

DATES: CTAC will meet on Tuesday, November 8, 2005, from 9 a.m. to 3:30 p.m. The Outreach Subcommittee will meet on Monday, November 7, 2005, from 9 a.m. to 11 a.m. and the HCTS Subcommittee will meet on Monday, November 7, 2005, from 12 noon to 3:30 p.m. These meetings may close early if all business is finished. Written material and requests to make oral presentations should reach the Coast Guard on or before October 31, 2005. Requests to have a copy of your material distributed to each member of the Committee should reach the Coast Guard on or before October 31, 2005.

ADDRESSES: CTAC and its Outreach and HCTS Subcommittees will meet at the Moody Gardens Hotel and Convention Center, 7 Hope Blvd., Galveston, TX. Send written material and requests to make oral presentations to Commander Robert J. Hennessy, Executive Director of CTAC, Commandant (G-MSO-3), U.S. Coast Guard Headquarters, 2100 Second Street SW., Washington, DC 20593-0001 or E-mail: CTAC@comdt.uscg.mil. This notice is available on the Internet at http://dms.dot.gov.

FOR FURTHER INFORMATION CONTACT: Commander Robert J. Hennessy, Executive Director of CTAC, or Ms. Sara Ju, Assistant to the Executive Director, telephone 202-267-1217, fax 202-267-4570.

SUPPLEMENTARY INFORMATION: Notice of these meetings is given under the Federal Advisory Committee Act, 5 U.S.C. App. 2.

Agenda of Outreach Subcommittee Meeting on Monday, November 7, 2005

(1) Introduce Subcommittee members and attendees.

(2) Review Task Statement.

(3) Discuss future outreach initiatives.

Agenda of HCTS Subcommittee Meeting on Monday, November 7, 2005

(1) Introduce Subcommittee members and attendees.

(2) Review video on Sensitive Security Information.

(3) Discuss on-line security training.

(4) Review Policy Advisory Council Decision No. 56-05.

(5) Brief on Certain Dangerous Cargo (CDC) list consolidation.

(6) Discuss status of CDC residue regulations.

(7) Brief on Houston Galveston Navigation Safety Advisory Committee (HOGANSAC) Declaration of Inspection Working Group.

Agenda of CTAC Meeting on Tuesday, November 8, 2005

(1) Introduce Committee members and attendees.

(2) Status report presentation from the CTAC National Fire Protection Association (NFPA) 472 Subcommittee.

(3) Status report presentation from the CTAC HCTS Subcommittee.

(4) Status report presentation from the CTAC Outreach Subcommittee.

(5) Discussion on the CTAC Membership Working Group.

(6) Presentation by the Louisiana Department of Environmental Quality Marine Response.

(7) Presentation on Acrylonitrile Antidotes.

(8) Presentation on Good Manufacturing Practices.

(9) Presentation on the role of the International Tanker Owners Pollution Federation in marine oil and chemical response.

(10) Update on Coast Guard Regulatory Projects.

Procedural

These meetings are open to the public. Please note that the meetings may close early if all business is finished. At the discretion of the Chair, members of the public may make oral presentations during the meetings generally limited to 5 minutes. If you would like to make an oral presentation at a meeting, please notify the Executive Director and submit written material on or before October 31, 2005. If you would like a copy of your material distributed to each member of the Committee in advance of a meeting, please submit 25 copies to the Executive Director (see ADDRESSES) no later than October 31, 2005.

Information on Services for Individuals With Disabilities

For information on facilities or services for individuals with disabilities, or to request special assistance at the meeting, telephone the Executive Director as soon as possible.

Dated: October 4, 2005.
Howard L. Hime,
Acting Director of Standards, Marine Safety, Security and Environmental Protection.

[FR Doc. 05-20469 Filed 10-12-05; 8:45 am]

BILLING CODE 4910-15-P